DEPARTMENT OF DEFENSE

Department of the Army

[Docket ID USA-2014-0030]

Privacy Act of 1974; System of Records

AGENCY: Department of the Army, DoD.

ACTION: Notice to delete four Systems of Records.

SUMMARY: The Department of the Army is deleting four systems of records notices in its existing inventory of record systems subject to the Privacy Act of 1974, as amended. The systems are A0600 USAREUR, USAREUR Community Automation System (UCAS); A0070 AMC, Resumes for Non-Government Technical Personnel; A0025 JDIM, HQDA Correspondence and Control/Central Files System; and A0350 USEUCOM, George C. Marshall European Center for Security Studies Speaker Files.

DATES: Comments will be accepted on or before September 15, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army systems of records notices subject to the Privacy Act of 1974 (5 U.S.C. 552a), as amended, have been published in the Federal Register and are available from the address in FOR FURTHER INFORMATION CONTACT or at http://dpclo.defense.gov. The Department of the Army proposes to delete four systems of records notices from its inventory of record systems subject to the Privacy Act of 1974 (5 U.S.C. 552a), as amended. The proposed deletions are not within the purview of subsection (r) of the Privacy Act of 1974 (5 U.S.C. 552a), as amended, which requires the submission of a new or altered system report.

Dated: August 8, 2014.
Aaron Siegel,
Alternate OSD Federal Register Liaison Officer, Department of Defense.

Deletions:

A0600 USAREUR: USAREUR Community Automation System (UCAS) (February 7, 2001, 66 FR 9298)

Reason:

The Army organization responsible for these records has been deactivated. Records for this unit were not scheduled by NARA for retention. There is no record of documents being transferred or destroyed; therefore, A0600 USAREUR, USAREUR Community Automation System (UCAS) can be deleted.

A0070 AMC: Resumes for Non-Government Technical Personnel (November 5, 1998, 63 FR 59765)

Reason:

The program using this system of records notice has been discontinued and records are no longer collected and have met the approved NARA retention schedule; therefore, A0070 AMC, Resumes for Non-Government Technical Personnel can be deleted.

A0025 JDIM: HQDA Correspondence and Control/Central Files System (February 24, 2000, 65 FR 9255)

Reason:

The program using this system of records notice has been discontinued and records are no longer collected. There was not an approved NARA retention scheduled for this system of records. Once the administrative tracking actions were completed, records were destroyed by deletion from the system. This system has since been replaced by “Department of the Army Tracking System (HQDA-TS)”, which does not collect any PII; therefore, A0025 JDIM, HQDA Correspondence and Control/Central Files System can be deleted.

A0350 USEUCOM: George C. Marshall European Center for Security Studies Speaker Files (August 23, 2004, 69 FR 51816)

Reason:

These records are now covered by DSCA 03, Regional Center Persons/Activity Management System (RCPAMS) (January 28, 2013, 78 FR 5781); therefore, A0350 USEUCOM, George C. Marshall European Center for Security Studies Speaker Files can be deleted.

[FR Doc. 2014-19214 Filed 8-13-14; 8:45 am]

BILLING CODE 5001-06-P